DEPARTMENT OF THE INTERIOR

National Park Service

[NPS-WASO-NRNHL-DTS#-37121; PPWOCRADI0, PCU00RP14.R50000]

National Register of Historic Places; Notification of Pending Nominations and Related Actions

AGENCY: National Park Service, Interior.

ACTION: Notice.

SUMMARY: The National Park Service is soliciting electronic comments on the significance of properties nominated before December 9, 2023, for listing or related actions in the National Register of Historic Places.

DATES: Comments should be submitted electronically by January 2, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 9, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

ARKANSAS

Hempstead County

First Presbyterian Church, 701 South Main Street, Hope, SG100009766

Phillips County

Eliza Miller Junior and Senior High School, 106 Miller Loop, Helena-West Helena, SG100009768

Pulaski County

La Belle Creole, 8101 Barrett Road, Roland vicinity, SG100009764

Arkansas State Highway Department Headquarters, 10324 Interstate 30, Little Rock, SG100009769

Washington County

Tisdale Store-Goshen Post Office, 119 Turtle Rd., Goshen, SG100009770

CALIFORNIA

Santa Clara County

Allen, Clifford, House, 637 Alvarado Row, Stanford, SG100009748

Sonoma County

Belden/Birkhofer House, 13555 Highway 116, Guerneville, SG100009749

MISSISSIPPI

Lincoln County

Hartman Funeral Home, 101 W Chickasaw Street, Brookhaven, SG100009745

NEW YORK

Broome County

Sheltered Workshop for the Disabled Building, (Industrial Resources of Broome County, New York MPS), 200-204 Court Street, Binghamton, MP100009750

Erie County

Gates Circle Medical Building, 50 Gates Circle, Buffalo, SG100009751

SOUTH CAROLINA

Orangeburg County

Holly Hill Downtown Historic District, Portions of Gardner Blvd., Old State Road, and Railroad Ave., Holly Hill, SG100009752

TEXAS

Caldwell County

Zedler Mill Historic District, 1115 and 1170 South Laurel Avenue, Luling, SG100009739

Galveston County

Congregation Beth Jacob, 2401 Avenue K, Galveston, SG100009737

Harris County

Houston Light Guard Armory, 3820 Caroline Street, Houston, SG100009738

A request for removal has been made for the following resource(s):

ARKANSAS

Clay County

Esso Station, (Arkansas Highway History and Architecture MPS), 287 W Main, Piggott, OT00000604

Cleveland County

Phoenix Hotel, 108 Main St., Rison, OT02001071

Hempstead County

Ethridge House, 511 N Main St., Hope, OT93001259

Pope County

Old South Restaurant, (Arkansas Highway History and Architecture MPS), 1330 E Main St., Russellville vicinity, OT99001064

Washington County

St. Joseph Catholic Church, 110 E Henri de Tonti Blvd., Tontitown, OT06000080

Yell County

First Presbyterian Church-Berry House, 203 Pecan St., Dardanelle, OT98000582

Additional documentation has been received for the following resource(s):

ALABAMA

Morgan County

Simpson's Florist (Additional Documentation), 902 6th Avenue SE, Decatur, AD100009550

Tallapoosa County

Dadeville Historic District (Additional Documentation), Lafayette, East, South, S. Tallassee & West Sts., Dadeville, AD13000471

ARIZONA

Pima County

Catalina Vista Historic District (Additional Documentation), 2200 E Edison St., Tucson, AD03000317

MARYLAND

Harford County

Griffith House (Additional Documentation), SW of Aberdeen at 1120 Old Philadelphia Rd., Aberdeen vicinity, AD78001465

TENNESSEE

Marshall County, Verona Methodist Episcopal Church, South (additional Documentation), 724 John Lunn Rd., Verona, AD85002755

Maury County

Mount Pleasant Commercial Historic District (Additional Documentation), (Mount Pleasant MPS), Roughly bounded by N and S Main Sts., Public Sq. and Hay Long Ave., Mount Pleasant, AD03001160

Meigs County

Grubb, Jacob L., Store (Additional Documentation), (Meigs County, Tennessee MRA), TN 58, Decatur, AD82004000

Hutsell, Sam, House (Additional Documentation), (Meigs County, Tennessee MRA), 240 Sliger Lane, Decatur, AD82004025

Authority: Section 60.13 of 36 CFR part 60.

Sherry A. Frear,
Chief, National Register of Historic Places/National Historic Landmarks Program.

[FR Doc. 2023-27762 Filed 12-15-23; 8:45 am]

BILLING CODE 4312-52-P